DEPARTMENT OF THE INTERIOR

Bureau of Land Management

[MT-010-1430-ET; WYW 88887]

Notice of Proposed Withdrawal Extension and Opportunity for Public Meeting; Wyoming

AGENCY: Bureau of Land Management, Interior.

ACTION: Notice.

SUMMARY: The Department of the Interior proposes to extend the duration of Public Land Order (PLO) No. 6665 for an additional 20-year term. PLO No. 6665 withdrew 180 acres of public lands in Big Horn County, Wyoming from settlement, sale, location, or entry under the general land laws, including the United States mining laws to protect the Bureau of Land Management (BLM) Britton Springs Administrative Site and Crooked Creek Natural Area. This notice also gives an opportunity to comment on the proposed action and to request a public meeting. The lands have been and will remain open to mineral leasing.

DATES: Comments and requests for a public meeting must be received by July 18, 2007.

ADDRESSES: Comments and meeting requests should be sent to the BLM Billings Field Manager, 5001 Southgate Drive, Billings, Montana 59101-4669.

FOR FURTHER INFORMATION CONTACT: Janice MaChipiness, BLM, Billings Field Office, (406) 896-5263, or at the above address, or Sandra Ward, BLM, Montana State Office, (406) 896-5052, or at the above address.

SUPPLEMENTARY INFORMATION: The withdrawal created by PLO No. 6665 (53 FR 7187) will expire March 6, 2008, unless extended. The Assistant Secretary for Land and Minerals Management has approved the BLM petition to file an application to extend PLO No. 6665 for an additional 20-year period. The withdrawal was made to protect the Britton Springs Administrative Site and the Crooked Creek Natural Area/National Natural Landmark on public lands described as follows:

Sixth Principal Meridian, Wyoming

T. 58 N., R. 95 W.,

Sec. 20, N½SW¼NW¼;

Sec. 28, NW¼.

The areas described aggregate 180 acres in Big Horn County.

The purpose of the proposed extension is to continue the withdrawal created by PLO No. 6665 for an additional 20-year term to protect the Federal investment at the Britton Springs Administrative Site and the paleontological resources in the Crooked Creek Natural Area.

As extended, the withdrawal would not alter the applicability of those public land laws governing the use of lands under lease, license, or permit or governing the disposal of the mineral or vegetative resources other than under the mining laws.

The use of a right-of-way or interagency or cooperative agreement would not adequately protect the paleontological resources and capital improvements in these areas.

There are no suitable alternative sites available. Significant paleontological resources are located at the Crooked Creek site and the Britton Springs site is already constructed in the above-described public land.

There are existing water facilities at the Britton Springs site.

For a period of 90 days from the date of publication of this notice, all persons who wish to submit comments, suggestions, or objections in connection with the proposed withdrawal extension may present their views in writing to the BLM Billings Field Office at the address noted above.

Comments, including names and street addresses of respondents, will be available for public review at the BLM Billings Field Office at the address noted above during regular business hours 8 a.m. to 4:30 p.m., Monday through Friday, except holidays. Before including your address, phone number, e-mail address, or other personal identifying information in your comments, be advised that your entire comment—including your personal identifying information—may be made publicly available at any time. While you can ask us in your comment to withhold from public review your personal identifying information, we cannot guarantee that we will be able to do so. Notice is hereby given that an opportunity for a public meeting is afforded in connection with the proposed withdrawal extension. All interested persons who desire a public meeting for the purpose of being heard on the proposed withdrawal extension must submit a written request to the BLM Billings Field Manager within 90 days from the date of publication of this notice. If the authorized officer determines that a public meeting will be held, a notice of the time and place will be published in the Federal Register at least 30 days before the scheduled date of the meeting. This withdrawal extension proposal will be processed in accordance with the applicable regulations set forth in 43 CFR 2310.4.

(Authority: 43 CFR 2310.3-1)

Dated: April 5, 2007.
Theresa Hanley,
Chief, Division of Resources.

[FR Doc. E7-7431 Filed 4-18-07; 8:45 am]

BILLING CODE 4310-$$-P